DEPARTMENT OF THE INTERIOR

Bureau of Land Management

[ID-075-2822 JL F604]

Notice of Closure to Livestock Grazing Use and Notice of Intent To Impound

AGENCY: Bureau of Land Management, Interior.

ACTION: Notice of closure to livestock grazing use and notice of intent to impound.

SUMMARY: Effective immediately, the entire East Holbrook allotment, #06361, is closed to livestock grazing, as well as the burned portions of the following areas: Hansel Mountain allotment, #06365, referred to as the Hansel Mountain pasture; Ridgedale allotment, #06360; and Grandine pasture of the Curlew allotment, #16001. This closure will remain in effect until March 1, 2003; or until such time as the authorized officer of the Bureau of Land Management (BLM) Pocatello Field Office determines the closure may be lifted.

This closure is a direct result of a wildland fire which burned this area in September of 2000 and of the subsequent rehabilitation efforts of the BLM. The closure will promote the reestablishment of vegetation on this site and improve the potential for recovery of wildlife and livestock forage.

This notice is also to inform the public/permittees that any unauthorized livestock grazing upon public land or other lands under the BLM's control is in violation of 4140.1(b)(1) and may be impounded. The unauthorized livestock may be impounded after 5 days from delivery of this notice or any time after 5 days from publishing and posting this notice. Unauthorized livestock within the entire East Holbrook allotment, #06361 as well as those portions of the other allotments listed above may be impounded without further notice any time in the 12 month period beginning 5 days from receipt of this notice as authorized by 43 CFR 4150.4-2. This notice is issued in accordance with 43 CFR 4150.4-1(a) and (b); any impoundment of unauthorized livestock in connection with this notice will be done in accordance with 43 CFR 4150.4-2. Pursuant to 43 CFR 4150.4-4, any owner or his agent, or both, or lien-holder of record of the impounded livestock may redeem them under these regulations or, if a suitable agreement is in effect, in accordance with State law, prior to the time of sale upon settlement with the United States under Sec. 4150.3 or adequate showing that there has been no violation.

SUPPLEMENTARY INFORMATION: The area of closure and impoundment affected by this notice is specifically the following allotments within the Upper Snake River Districts: East Holbrook, Hansel Mountain, Ridgedale, and Curlew, and is more specifically described wholly or partially: From Boise Meridian, T. 15 S., R. 33 E., secs. 1, 2, 10, 11, 15, 22, 23, 27, 28, 32, 33, 34; and T. 16 S., R. 33 E. secs. 2, 3, 4, 5, 6, 9, 10, 14, and 15. Detailed maps of the area closed to livestock grazing are available at the Malad Field Station, Malad, Idaho.

FOR FURTHER INFORMATION CONTACT: The BLM Malad Field Station, 138 S. Main, Malad, ID 83252 or the BLM Pocatello Field Office, 1111 N. 8th Avenue, Pocatello, ID 83201.

Dated: November 13, 2000.
Jeff S. Steele,
Pocatello Field Manager.

[FR Doc. 00-33035 Filed 12-27-00; 8:45 am]

BILLING CODE 4310-GG-P